DEPARTMENT OF LABOR

Employment and Training Administration

[NAFTA-6286]

Joy Mining Machinery, Mt. Vernon, IL; Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 U.S.C. 2273), an investigation was initiated on June 12, 2002, in response to a petition filed by the International Brotherhood of Boilermakers, Iron Ship Builders, Blacksmiths, Forgers and Helpers, Local 483, on behalf of workers at Joy Mining Machinery, Mt. Vernon, Illinois (NAFTA-6286).

The date of the petition is June 3, 2002, however, the employees in question were terminated from employment November 24, 2000. Thus, all workers were separated from the subject firm more than one year prior to the date of the petition. Section 223(b) of the Act specifies that no certification may apply to any worker whose last separation occurred more than one year prior to the date of the petition.

Consequently, further investigation in this case would serve no purpose, and the investigation has been terminated.

Signed in Washington, DC this 10th day of July, 2002.
Edward A. Tomchick,
Director, Division of Trade Adjustment Assistance.

[FR Doc. 02-18428 Filed 7-19-02; 8:45 am]

BILLING CODE 4510-30-P